SMALL BUSINESS ADMINISTRATION

[Declaration of Disaster #3449; Amendment #1]

State of Louisiana

In accordance with a notice received from the Federal Emergency Management Agency, dated October 1, 2002, the above numbered declaration is hereby amended to establish the incident period for this disaster as beginning on September 21, 2002, and continuing through October 1, 2002.

All other information remains the same, i.e., the deadline for filing applications for physical damage is November 26, 2002, and for economic injury the deadline is June 27, 2003.

(Catalog of Federal Domestic Assistance Program Nos. 59002 and 59008)
Dated: October 10, 2002.
Herbert L. Mitchell,
Associate Administrator for Disaster Assistance.

[FR Doc. 02-26547 Filed 10-17-02; 8:45 am]

BILLING CODE 8025-01-P